ENVIRONMENTAL PROTECTION AGENCY

[FRL-9987-44-Region 10]

Clean Air Act Operating Permit Program; Petition for Objection To State Operating Permit for the U.S. Department of Energy-Hanford Operations, Benton County, Washington

AGENCY: Environmental Protection Agency (EPA).

ACTION: Notice of final Order on Petition for objection to Clean Air Act title V operating permit.

SUMMARY: The Environmental Protection Agency (EPA) Administrator signed an Order, dated October 15, 2018, granting a petition dated September 1, 2016, filed by Bill Green of Richland, Washington. The Petition requested that the EPA object to a Clean Air Act (CAA) title V operating permit (Permit No. 00-05-006, Renewal 2, Revision B) issued by the Washington State Department of Ecology (Ecology) to the U.S. Department of Energy-Hanford Operations (DOE) for the Hanford site located in Benton County, Washington.

ADDRESSES: The EPA requests that you contact the individual listed in the FOR FURTHER INFORMATION CONTACT section to view copies of the final Order, the Petition, and other supporting information. You may view hard copies of these documents Monday through Friday, from 9 a.m. to 3 p.m., excluding federal holidays, at EPA Region 10, 1200 Sixth Avenue, Seattle, Washington. If you wish to examine these documents, you should make an appointment at least 24 hours before the visiting day. Additionally, the final Order and Petition are available electronically at: http://www.epa.gov/title-v-operating-permits/title-v-petition-database.

FOR FURTHER INFORMATION CONTACT: Kelly McFadden, EPA Region 10, (206) 553-1679, McFadden.Kelly@epa.gov.

SUPPLEMENTARY INFORMATION: The CAA affords the EPA a 45-day period to review and object to, as appropriate, a title V operating permit proposed by a state permitting authority under title V of the CAA. Section 505(b)(2) of the CAA authorizes any person to petition the EPA Administrator to object to a title V operating permit within 60 days after the expiration of the EPA's 45-day review period if the EPA has not objected on its own initiative. Petitions must be based only on objections to the permit that were raised with reasonable specificity during the public comment period provided by the state, unless the petitioner demonstrates that it was impracticable to raise these issues during the comment period or unless the grounds for the issue arose after this period.

The EPA received the Petition from Bill Green of Richland, Washington, dated September 1, 2016, requesting that the EPA object to the issuance of title V operating permit no. 00-05-006, Renewal 2, Revision B, issued by Ecology to DOE for the Hanford site in Benton County, Washington.

The Petition claims that Ecology did not, as required by 40 CFR 70.7(h)(2), make available during the public comment process all of the information that the permitting authority had deemed to be relevant by using it in the permitting process.

On October 15, 2018, the EPA Administrator issued an Order granting the Petition. The Order explains the basis for EPA's decision.

Sections 307(b) and 505(b)(2) of the CAA provide that a petitioner may ask for judicial review of those portions of an order that deny issues raised in a petition. Any petition for review shall be filed in the United States Court of Appeals for the appropriate circuit no later than February 4, 2019.

Dated: November 21, 2018.
Michelle L. Pirzadeh,
Acting Regional Administrator, EPA Region 10.

[FR Doc. 2018-26482 Filed 12-4-18; 8:45 am]

BILLING CODE 6560-50-P